DEPARTMENT OF AGRICULTURE

Natural Resources Conservation Service

[Docket No. NRCS-2014-0001]

Conservation Innovation Grants Fiscal Year (FY) 2014 Announcement for Program Funding

AGENCY: Natural Resources Conservation Service, United States Department of Agriculture.

ACTION: Notice of program funding.

SUMMARY: The Natural Resources Conservation Service (NRCS), an agency under the United States Department of Agriculture (USDA), is announcing availability of Conservation Innovation Grants (CIG) to stimulate the development and adoption of innovative conservation approaches and technologies. Applications will be accepted from all 50 States, District of Columbia, Caribbean Area (Puerto Rico and U.S. Virgin Islands), and the Pacific Islands Area (Guam, American Samoa, and the Commonwealth of the Northern Mariana Islands). NRCS anticipates that the amount available for support of this program in FY 2014 will be up to $15 million. Applications are requested from eligible governmental or non-governmental organizations or individuals for competitive consideration of grant awards for projects between 1 and 3 years in duration.

Funds will be awarded through a two-phase nationwide competitive grants process that will include: (1) A pre-proposal process, and (2) a full proposal process. The full proposal process will only be open to applicants whose pre-proposal applications are selected by NRCS. Both phases are described in the full announcement found at Grants.gov. Only pre-proposals are being solicited at this time.

Please visit http://www.nrcs.usda.gov/technical/cig/index.html for more information about this grant opportunity. In addition, the full notice that identifies the objectives, eligibility criteria, and application instructions for CIG projects can also be found at: www.grants.gov. Applications will be screened for completeness and compliance with the provisions of the announcement. Incomplete applications will be eliminated from competition, and notification of elimination will be mailed to the applicant. NRCS will request a full proposal package only from those applicants selected in the pre-proposal phase.

DATES: Applications for the pre-proposal phase must be received by NRCS before 4:00 p.m. EST on March 7, 2014. NRCS will announce selected pre-proposal applications by April 7, 2014. Selected applicants will then be required to submit a full proposal package to NRCS by 4:00 p.m. EDT on May 5, 2014.

ADDRESSES: Applications sent via express mail or overnight courier service must be sent to the following address: USDA-NRCS, CIG Program, 1400 Independence Avenue SW., Room 6143 South Building, Washington, DC 20250. Applications sent via the United States Postal Service must be sent to the following address: USDA-NRCS, CIG Program, Post Office Box 2890, Washington, DC 20013-2890. Applications sent electronically must be sent through www.grants.gov or nrcscig@wdc.usda.gov.

FOR FURTHER INFORMATION CONTACT: Gregorio Cruz, National CIG Program Manager, NRCS, Post Office Box 2890, Washington, DC 20250; telephone: (202) 720-8644; email: gregorio.cruz@wdc.usda.gov.

Signed this 30th day of January 2014 in Washington, DC.
Jason A. Weller,
Vice President, Commodity Credit Corporation, and Chief, Natural Resources Conservation Service.

[FR Doc. 2014-02476 Filed 2-5-14; 8:45 am]

BILLING CODE 3410-16-P